DEPARTMENT OF THE INTERIOR

Bureau of Land Management

Legal Description of Barry M. Goldwater Range Withdrawal, AZ

AGENCY: Bureau of Land Management, Interior.

ACTION: Notice.

SUMMARY: This notice provides official publication of the legal description of the Barry M. Goldwater Range withdrawal in Arizona, as required by Section 3033(a)(1) of Public Law 106-65 (October 5, 1999).

EFFECTIVE DATE: October 5, 1999.

FOR FURTHER INFORMATION CONTACT: Eugene A. Dahlem at the Bureau of Land Management, Phoenix Field Office, 21605 North 7th Avenue, Phoenix, Arizona 85027, (623) 580-5525.

SUPPLEMENTARY INFORMATION: The legal description of the withdrawal for Barry M. Goldwater Range effected by Public Law 106-65 is as follows:

Gila and Salt River Meridian, Arizona

T. 8 S., R. 1 W.,

Sec. 30, SW¼;

Sec. 31, inclusive;

Sec. 32, NW¼, S½;

Sec. 33, SW¼.

T. 9 S., R. 1 W.,

Sec. 3, S½;

Secs. 4 to 11, inclusive;

Sec. 12, SW¼;

Secs. 13 to 36, inclusive.

T. 8 S., R. 2 W.,

Sec. 7, NW¼, S½;

Sec. 8, SW¼;

Sec. 16, S½;

Secs. 17 to 22, inclusive;

Sec. 23, S½;

Sec. 25, NW¼, S½;

Secs. 26 to 36, inclusive.

T. 9 S., R. 2 W.

T. 7 S., R. 3 W.,

Sec. 19, SW¼;

Sec. 28, SW¼;

Sec. 29, NW¼, S½;

Secs. 30 to 33, inclusive;

Sec. 34, S½.

T. 8 S., R. 3 W.,

Sec. 1, SW¼;

Secs. 2 to 36, inclusive.

T. 9 S., R. 3 W.

T. 10 S., R. 3 W.,

Secs. 4 to 9, inclusive;

Secs. 16 to 21, inclusive;

Secs. 28 to 33, inclusive.

T. 7 S., R. 4 W.,

Sec. 14, S½;

Secs. 15 to 23, inclusive;

Sec. 24, NW¼, S½;

Secs. 25 to 36, inclusive.

Tps. 8, 9, and 10 S., R. 4 W.

T. 6 S., R. 5. W.,

Sec. 13, inclusive;

Sec. 14, E½, S½NW¼, SW¼;

Secs. 15, 16, and 17, inclusive;

Sec. 18, lots 3, 4, E½NE¼, SW¼NE¼, SE¼NW¼, E½SW¼, SE¼;

Secs. 19 to 36, inclusive.

Tps. 7 to 10 S., R. 5 W.

T. 6 S., R. 6 W.,

Sec. 13, E½SE¼, SW¼SE¼, SE¼SW¼;

Sec. 22, E½SE¼, SW¼SE¼, S½SW¼;

Sec . 23, S½, E½NE¼, SW¼NE¼, SE¼NW¼;

Secs. 24 to 27, inclusive;

Secs. 34 to 36, inclusive.

T. 7 S., R. 6 W.,

Secs. 1 to 3, inclusive;

Secs. 10 to 36, inclusive.

Tps. 8, 9, and 10 S., R. 6 W.

T. 11 S., R. 6 W.,

Secs. 5 to 8, inclusive;

Secs. 4, 9, 10, and 15, all those portions lying west of the westerly boundaries of the State Route 85 (100 feet) and detention basin (700 feet) rights-of-way, as more particularly identified and described on the official BLM plat maps;

Secs. 16 to 21, inclusive;

Secs. 22 and 27, all those portions lying west of the westerly boundary of the State Route 85 (100 feet) right-of-way, as more particularly identified and described on the official BLM plat maps;

Secs. 28 to 30, inclusive.

T. 7 S., R. 7 W.,

Secs. 13 to 36, inclusive.

Tps. 8 to 10 S., R. 7 W.

T. 7 S., R. 8 W.,

Secs. 13 to 15, inclusive;

Sec. 16, S½;

Sec. 17, S½;

Sec. 18, S½;

Secs. 19 to 36, inclusive.

Tps. 8 and 9 S., R. 8 W., unsurveyed.

T. 10 S., R. 8 W.

T. 7 S., R. 9 W.,

Sec. 13, S½;

Sec. 14, S½;

Secs. 19 to 36, inclusive.

Tps. 8 to 11 S., R 9 W., unsurveyed.

Tps. 8 and 9 S., R. 10 W.

Tps. 10 and 11 S., R. 10 W., unsurveyed.

Tps. 8 to 10 S., R. 11 W.

T. 11 S., R. 11 W., unsurveyed.

Tps. 8 and 9 S., Rs. 11½ and 12 W.

T. 10 S., R. 12 W.

T. 11 S., R. 12 W., unsurveyed.

T. 8 S., R. 13 W.,

Secs. 1 to 3, inclusive;

Secs. 4 to 7, all those portions lying south of the southerly boundary of the railroad right-of-way, as more particularly identified and described on the official BLM plat maps.

Secs. 8 to 36, inclusive.

Tps. 9 and 10 S., R. 13 W.

T. 11 S., R. 13 W., unsurveyed.

T. 8 S., R. 14 W.,

Secs. 11, 12, 14, 15, 16, and 21, all those portions lying south of the southerly boundary of the railroad right-of-way, as more particularly identified and described on the official BLM plat maps;

Sec. 20, all those portions lying south of the southerly boundaries of the railroad right-of-way and the Interstate Highway 8 right-of-way, as more particularly identified and described on the official BLM plat maps;

Secs. 13 and 22 to 36, inclusive.

Tps. 9 and 10 S., R. 14 W.

T. 11 S., R. 14 W., unsurveyed.

T. 8 S., R. 15 W.,

Secs. 33 to 36, inclusive.

Tps. 9 and 10 S., R. 15 W.

T. 11 S., R. 15 W., unsurveyed.

T. 9 S., R. 16 W.,

Secs. 1 and 2;

Secs. 7 to 36, inclusive.

T. 10 S., R. 16 W.

T. 11 S., R. 16 W., unsurveyed.

T. 9 S., R. 17 W., partially surveyed,

Secs. 12 to 16, inclusive;

Sec. 17, S½;

Secs. 19 to 36, inclusive.

T. 10 S., R. 17 W.

Tps. 11 to 14 S., R 17., unsurveyed.

T. 9 S., R. 18 W.,

Sec. 21, SE¼;

Sec. 22, S½;

Secs. 23 to 36, inclusive.

T. 10 S., R. 18 W.

Tps. 11 to 13 S., R. 18 W., unsurveyed.

T. 9 S., R. 19 W.,

Secs. 25 to 36, inclusive.

Tps. 10 to 13 S., R. 19 W., unsurveyed.

T. 9 S., R. 20 W.,

Secs. 25 to 36, inclusive.

Tps. 10 to 12 S., R. 20 W., unsurveyed.

T. 9 S., R. 21 W.,

Secs. 25 to 36, inclusive.

Tps. 10 to 12 S., R. 21 W.

T. 9 S., R. 22 W.,

Secs. 25 to 28, inclusive;

Sec. 29, E½, E½NW¼, SW¼;

Secs. 32 to 36, inclusive.

T. 10 S., R. 22 W.,

Secs. 1 to 5, inclusive;

Sec. 6, E½;

Secs. 7 to 36, inclusive.

Tps. 11 and 12 S., R. 22 W.

The area described contains 1,733,921 acres, more or less, of withdrawn land in Maricopa, Pima and Yuma Counties. The withdrawn area consists of approximately 83,675 acres of former State and Private lands, in scattered parcels owned by the military, and approximately 1,650,246 acres of public lands.

A copy of the legal description and map are available for public inspection in the following offices:

Director (350), Bureau of Land Management, 1620 L Street NW, Room 1000, Washington, DC 20036.

Arizona State Office (952 PR), Bureau of Land Management, 222 North Central Avenue, Phoenix, Arizona 85004-2203.

Bureau of Land Management, Phoenix Field Office, 21605 North 7th Avenue, Phoenix, Arizona 85027.

Bureau of Land Management, Yuma Field Office, 2555 East Gila Ridge Road, Yuma, Arizona 85365-2240.

Commander, 56th Fighter Wing, 7224 North 139th Drive, Luke Air Force Base, Arizona 85309-1420.

Commanding Officer, Marine Corps Air Station Yuma, Yuma, Arizona 85369-9100.

Office of the Secretary of Defense, 1000 Defense Pentagon, Washington, DC 20301-1000.

Dated: October 30, 2001.
Michael A. Taylor,
Field Manager, Phoenix Field Office.

[FR Doc. 01-29730 Filed 11-29-01; 8:45 am]

BILLING CODE 5001-08-P